DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other person showing a substantial interest in the subject matter of the investigations may request a public hearing, provided such request is filed in writing with the Director, Division of Trade Adjustment Assistance, at the address shown below, not later than August 27, 2001.

Interested persons are invited to submit written comments regarding the subject matter of the investigations to the Director, Division of Trade Adjustment Assistance, at the address shown below, not later than August 27, 2001.

The petitions filed in this case are available for inspection at the Office of the Director, Division of Trade Adjustment Assistance, Employment and Training Administration, U.S. Department of Labor, Room C-5311, 200 Constitution Avenue, NW., Washington, DC 20210.

Signed at Washington, DC this 23rd day of July, 2001.
Edward A. Tomchick,
Director, Division of Trade Adjustment Assistance.

Appendix
[Petitions Instituted on 7/23/2001]
TA-W | Subject firm (petitioners) | Location | Date of petition | Product(s)
39,664 | Maine Poly, Inc. (Wrks) | Coreene, ME | 07/13/2001 | Plastic Film Packaging
39,665 | IMS (Comp) | Warren, OH | 06/19/2001 | Slag
39,666 | International Wire (Comp) | Elkmont, AL | 06/13/2001 | Crosslink and PVC Wire
39,667 | Wheeling Pittsburgh Steel (USWA) | Steubenville, OH | 07/07/2001 | Hot Rolled Sheet
39,668 | Hawley Products, Inc. (Comp) | Paducah, KY | 07/05/2001 | Loudspeakers Cones
39,669 | Chadwick Yarns Co., Inc. (Wrks) | Central Falls, RI | 07/05/2001 | Industrial Yarns
39,670 | Lamb-Grays Harbor Co (Comp) | Hoquiam, WA | 07/09/2001 | Equipment—Pulp and Paper
39,671 | Fiber Optic Network (Wrks) | Northboro, MA | 07/09/2001 | Enclosure Cabinets
39,672 | GKN Sintered Metal (Wrks) | Kersey, PA | 06/28/2001 | Powered Metal Parts
39,673 | Magnolia International (Wrks) | Harlingen, TX | 07/10/2001 | Uniforms
39,674 | Pennsylvania Steel (USWA) | Steelton, PA | 07/03/2001 | Steel Rails, Pipe, Semi-Finished Steel
39,675 | Fruit Distributing Co (Comp) | Mobile, AL | 06/28/2001 | Food Distributor Schools, Gas Stations
39,676 | Del Laboratories, Inc. (Comp) | Newark, NJ | 07/03/2001 | Tweezers and Nail Clippers
39,677 | Concord Fabrics, Inc. (Comp) | New York, NY | 07/06/2001 | Painted Fabrics
39,678 | Cooper Bussmann (Comp) | Black Mountain, NC | 06/25/2001 | Electrical Fuses
39,679 | J and L Structural, Inc (USWA) | Ambridge, PA | 06/22/2001 | Finished Weight Beams and Channels
39,680 | Great Lakes Stitchery (Comp) | Manistee, MI | 07/10/2001 | Sew Men's & Ladies' Apparel
39,681 | United Shoe Machinery (USWA) | Wilmington, MA | 07/02/2001 | Shoe Mfg Machinery
39,682 | Wellmade Industries, Inc (Comp) | New York, NY | 07/10/2001 | Ladies' and Children's Apparel
39,683 | Plaid Clothing Co., Inc. (Comp) | Somerset, KY | 07/12/2001 | Men's Suits
39,684 | Lee Fashion Fabric/Dyeing (Comp) | Gloversville, NY | 07/07/2001 | Dye Fabrics
39,685 | Karin Stevens, Inc (Wkrs) | New York, NY | 07/10/2001 | Dress Patterns, Graders, Markers
39,686 | J and K Sales Co., Inc (Comp) | Pawtucket, RI | 07/13/2001 | Children's Costume Jewelry
39,687 | Ohio Industries (Wrks) | Bucyrus, OH | 07/12/2001 | Locomotive Cranes
39,688 | LifeStyle Leather (Comp) | Shelby, NC | 07/10/2001 | Leather Covers for Sofas, Chairs
39,689 | Mallicote Printing, Inc (Wrks) | Bristol, TN | 07/13/2001 | Company Brochures, Annual Reports
39,690 | Atlas Bag (Comp) | Houston, TX | 07/03/2001 | Flexible Bulk Containers
39,691 | Meadowbrook Company (IBT) | Spelter, WV | 07/12/2001 | Zinc Dust
39,692 | AM Communications, Inc (Comp) | Quakertown, PA | 07/11/2001 | Status Monitoring Products for Cable TV
39,693 | Winkle Industries (Wrks) | Confield, OH | 07/10/2001 | Power Hammers
39,694 | C.T. Gamble Acquisition (Wrks) | Delanco, NJ | 07/03/2001 | Electrical Resistors
39,695 | PEC of America Corp (Wrks) | Santee, CA | 07/11/2001 | Stamped Metal Parts—Appliances
39,696 | Hunt Forest Products (Comp) | Castor, LA | 07/13/2001 | Yellow Pine Lumber
39,697 | Koppers Industries, Inc. (Wrks) | Follensbee, WV | 07/17/2001 | Coal Tar Pitch
39,698 | RHI America (USWA) | Farber, MO | 07/10/2001 | Refractories

[FR Doc. 01-20540 Filed 8-14-01; 8:45 am]

BILLING CODE 4510-30-M